DEPARTMENT OF AGRICULTURE

Food Safety and Inspection Service

9 CFR Part 319

[Docket No. FSIS-2025-0016]

RIN 0583-AE06

Removal of Standard of Identity for Canned “Tripe With Milk”

AGENCY: Food Safety and Inspection Service (FSIS), U.S. Department of Agriculture (USDA).

ACTION: Notice of proposed rulemaking.

SUMMARY: FSIS is proposing to remove the standard of identity for canned “Tripe with Milk.” Although some establishments may continue to produce canned tripe with milk products, FSIS has determined that the existing standard for the finished canned article is unnecessary. The preamble to the rule that established the standard in 1950 did not provide any explanation or justification for the standard. Removal of the standard would provide greater flexibility for establishments. FSIS' labeling requirements are sufficient to ensure that these products are not misbranded.

DATES: Comments must be received by July 30, 2025.

ADDRESSES: FSIS invites interested persons to submit comments on this proposed rule. Comments may be submitted by one of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or Courier-Delivered Submittals: Deliver to 1400 Independence Avenue SW, Jamie L. Whitten Building, Room 350-E, Washington, DC 20250-3700. Instructions: All items submitted by mail or electronic mail must include the Agency name and docket number FSIS-2025-0016. Comments received in response to this docket will be made available for public inspection and posted without change, including any personal information, to https://www.regulations.gov.

Docket: For access to background documents or comments received, call (202) 720-5046 to schedule a time to visit the FSIS Docket Room at 1400 Independence Avenue SW, Washington, DC 20250-3700.

FOR FURTHER INFORMATION CONTACT: Denise Eblen, Acting Deputy Under Secretary for the Office of Food Safety, at (202) 205-0495 or docketclerk@usda.gov with a subject line of “Docket No. FSIS-2025-0016.” Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: FSIS administers the Federal Meat Inspection Act (FMIA) (21 U.S.C. 601 et seq.), which authorizes the Secretary to prescribe standards of identity whenever such action is necessary for the protection of the public (21 U.S.C. 607(c)). Seventy-five years ago, the Secretary established a standard of identify for canned “Tripe with Milk” at 9 CFR 17.8(c)(44) (15 FR 6285, 6286, September 20, 1950). That section was later redesignated as 9 CFR 319.308 (35 FR 15552, 15601, October 3, 1970). The standard requires the finished canned article to contain at least 65 percent tripe and no less than 10 percent milk. None of the preambles to the proposed or final rules provide any explanation or justification for why this specific formulation was necessary.

FSIS is proposing to remove 9 CFR 319.308 because FSIS has no basis to maintain this requirement and, accordingly, has determined that this standard of identity is not necessary for the protection of the public. Removal of the standard would provide establishments with more flexibility to develop canned products that contain tripe and milk in different proportions or with other ingredients, as long as the labeling remains truthful and not misleading in accordance with 9 CFR 317.8.

Executive Orders (E.O.s) 12866, 13563, 14215, and 14192

Executive Order (E.O.) 12866 provides that the Office of Information and Regulatory Affairs (OIRA) in the Office of Management and Budget will determine whether a regulatory action is significant as defined by E.O. 12866 and will review significant regulatory actions. OIRA has determined that this proposed rule is not significant as defined by E.O. 12866. E.O. 13563 reaffirms the principles of E.O. 12866 while calling for improvements in the Nation's regulatory system to promote predictability, to reduce uncertainty, and to use the best, most innovative, and least burdensome tools for achieving regulatory ends. E.O. 14215 amends E.O. 12866 to ensure Presidential supervision and control of the entire executive branch and to require that all executive departments and agencies submit for review all proposed and final significant regulatory actions to OIRA before publication in the Federal Register. The Department has developed the proposed rule consistent with E.O. 13563 and E.O. 14215.

This proposed rule is an E.O. 14192 “deregulatory action.”

Regulatory Flexibility Act

Under the Regulatory Flexibility Act (RFA) (5 U.S.C. 601-612) (as amended by the Small Business Regulatory Enforcement Fairness Act of 1996 (Pub. L. 104-121, 110 Stat. 857), agencies must prepare and make available for public comment a regulatory flexibility analysis that describes the effect of the rule on small entities (i.e., small businesses, small organizations, and small government jurisdictions). No regulatory flexibility analysis is required, however, if the head of an agency or an appropriate designee certifies that the rule will not have a significant economic impact on a substantial number of small entities. FSIS has concluded and hereby certifies that, if this proposed rule becomes final, it will not have a significant economic impact on a substantial number of small entities; therefore, an analysis is not included. If this proposed rule becomes final, establishments will not be required to change the way that they formulate or label their products. Because the proposed rule does not impose any new requirements, restrict production, or require relabeling of existing products, it is not expected to have any adverse economic effects on small or very small establishments.

Executive Order 13175

Executive Order 13175 requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. FSIS has assessed the impact of this proposed rule on Indian tribes and determined that this rule would not have tribal implications that require consultation under Executive Order 13175.

Paperwork Reduction Act

In accordance with the Paperwork Reduction Act of 1995 (44 U.S.C. 3501-3521), FSIS has reviewed the proposed rule. The Administrator has determined that this rulemaking would not impact information collection, paperwork, or recordkeeping activities.

E-Government Act Compliance

The Department is committed to complying with the E-Government Act, 2002 (Pub. L. 107-347, 116 Stat. 2899) to promote the use of the internet and other information technologies to provide increased opportunities for citizen access to Government information and services, and for other purposes.

E.O. 13132; Federalism Summary Impact Statement

The proposed rule is deregulatory and has little effect on States and local governments, so FSIS anticipates that if this proposed rule becomes final, it will not have implications for federalism. Therefore, under Section 6(b) of the E.O., a federalism summary is not required.

Environmental Impact

If this proposed rule becomes final, it will not have a reasonably foreseeable significant effect on the quality of the human environment. The proposal would merely provide more flexibility to establishments preparing canned products that contain tripe and milk. The proposal would not require establishments to change their current production practices or labels. Accordingly, this action is appropriately subject to the categorical exclusion from the preparation of an Environmental Assessment or an Environmental Impact Statement as authorized under 7 CFR 1b.4 of the USDA regulations.

USDA Non-Discrimination Statement

In accordance with Federal civil rights law and USDA civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the State or local Agency that administers the program or contact USDA through the Telecommunications Relay Service at 711 (voice and TTY). Additionally, program information may be made available in languages other than English.

To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by: (1) mail: U.S. Department of Agriculture, Office of the Assistant Secretary for Civil Rights, 1400 Independence Avenue SW, Mail Stop 9410, Washington, DC 20250-9410; (2) fax: (202) 690-7442; or (3) email: program.intake@usda.gov.

USDA is an equal opportunity provider, employer, and lender.

Additional Public Notification

Public awareness of all segments of rulemaking and policy development is important. Consequently, FSIS will announce this Federal Register publication on-line through the FSIS web page located at: https://www.fsis.usda.gov/federal-register. FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

Lists of Subjects in 9 CFR Part 319

Food grades and standards, Food labeling, Frozen foods, Meat inspection, Oils and fats.

For the reasons discussed in the preamble, FSIS is proposing to amend 9 CFR part 319 as follows:

PART 319—DEFINITIONS AND STANDARDS OF IDENTITY OR COMPOSITION

1. The authority citation for part 319 continues to read as follows:

Authority: 7 U.S.C. 1633, 1901-1906; 21 U.S.C. 601-695; 7 CFR 2.18, 2.53.

§ 319.308 [Removed and reserved]

2. Section 319.308 is removed and reserved.

Denise Eblen,
Acting Deputy Under Secretary for the Office of Food Safety.

[FR Doc. 2025-12032 Filed 6-27-25; 8:45 am]

BILLING CODE 3410-DM-P